ENVIRONMENTAL PROTECTION AGENCY

[ER-FRL-6667-6]

Environmental Impacts Statements; Notice of Availability

Responsible Agency: Office of Federal Activities, General Information (202) 564-7167 or http://www.epa.gov/compliance/nepa/. Weekly receipt of Environmental Impact Statements, filed 09/12/2005, through 09/16/2005, pursuant to 40 CFR 1506.9.

EIS No. 20050379, Final EIS, FHW, CA, California High-Speed Train System, High-Speed Train (HST) System for Intercity Travel, Extend from Sacramento and the San Francisco Bay Area, in the North, through Central Valley, to Los Angeles and San Diego in the South , Orange County, CA, Wait Period Ends: 10/24/2005, Contact: David Valenstein 202-493-6368 This document is available on the Internet at: http://www.cahighspeedrail.ca.gov.

EIS No. 20050380, Final EIS, FHW, NC, Fayetteville Outer Loop Corridor Study, Transportation Improvement Program (TIP) Cape Fear River, Cumberland, Hoke and Robeson Counties, NC, Wait Period Ends: 10/24/2005, Contact: John F. Sullivan 919-856-4346.

EIS No. 20050381, Final EIS, AFS, CA, Los Padres National Forest Oil and Gas Leasing Management, Implementation, Kern, Los Angeles, Monterey, Santa Barbara and San Luis Obispo Counties, CA, Wait Period Ends: 10/24/2005, Contact: Al Hess 805-646-4348 Ext. 311.

EIS No. 20050382, Draft EIS, BIA, WI, Menominee Casino-Hotel 223-Acre Fee-to-Trust Transfer and Casino Project, Implementation, Federal Trust, Menominee Indian Tribe of Wisconsin (Tribe), in City of Kenosha and County of Kenosha, WI, Comment Period Ends: 11/21/2005, Contact: Herb Nelson 612-725-4510.

EIS No. 20050383, Draft EIS, AFS, IL, Shawnee National Forest Trails Designation Project, Phase 1, Designation, Construction and Maintenance for Trail System within Four Watershed: Eagle Creek, Big Grand Pierre Creek, Lusk Creek and Upper Bay Creek, Hidden Springs Ranger District, Gallatin, Hardin, Johnson, Pope and Saline Counties, IL, Comment Period Ends: 11/07/2005, Contact: Matthew Lechner 618-253-7114. This document is available on the Internet at: http://www.fs.fed.us/r9/forests/shawnee/projects/projects/eis/2005/trails/.

EIS No. 20050384, Final EIS, COE, DC, Washington Aqueduct's Project, Proposed Water Treatment Residuals Management Process, NPDES Permit, Dalecarlia and McMillan Water Treatment Plants, Potomac River, Washington, DC, Wait Period Ends: 10/24/2005 Contact: Thomas P. Jacobus 202-764-0031.

EIS No. 20050385, Draft EIS, COE, VA, Craney Island Eastward Expansion, Construction of a 580-acre Eastward Expansion of the Existing Dredged Material Management Area, Port of Hampton Roads, Norfolk Harbor and Channels, VA , Comment Period Ends: 11/07/2005, Contact: Craig Seltzer 757-201-7390.

EIS No. 20050386, Draft EIS, NOA, AK, Office of Ocean and Coastal Resource Management Approval of Amendments to the State of Alaska's Coastal Management Program, Implementation, Funding, AK, Comment Period Ends: 11/07/2005, Contact: Helen C.P. Bass 301-713-3155 Ext. 175.

EIS No. 20050387, Draft EIS, FHW, TN, Interstate 69 Segment of Independent Utility #8, Construction from TN-385 (Paul Barrett Parkway) in Millington, TN to I-155/US51 in Dyersburg, TN, Funding, Shelby, Tipton, Lauderdale and Dyer Counties, TN, Comment Period Ends: 11/07/2005, Contact: Walter Boyd 615-781-5774.

EIS No. 20050388, Draft EIS, FRC, WA, Lewis River Hydroelectric Projects, Relicensing the Swift No. 1 (FERC No. 2111-018), Swift No. 2 (FERC No. 2213-011), Yale (FERC No. 2071-013), Merwin (FERC No. 935-053) Project, Application for Relicense, North Fork Lewis River, Cowlitz, Clark and Shamania Counties, WA, Comment Period Ends: 11/23/2005, Contact: Jon Cofrancesco 202-502-8951.

EIS No. 20050389, Draft EIS, FHW, CO, US Highway 160, Transportation Improvements from Junction US 160/550 Durango—East to Bayfield, U.S. Army COE Section 404 Permit, La Plata County, CO, Comment Period Ends: 11/07/2005, Contact: Joseph Duran 720-963-3006.

Amended Notices

EIS No. 20050369, Final EIS, FHW, MD, MD-32 Planning Study, Transportation Improvements from MD-108 to Interstate 70, Funding, Howard County, MD, Wait Period Ends: 10/11/2005, Contact: Caryn Brookman 410-962-4440. Revision to FR Notice Published on 9/9/2005. Correction to Comment Due Date from 10/24/05 to 10/11/2005 and to the Title.

Dated: September 20, 2005.
Robert W. Hargrove,
Director, NEPA Compliance Division, Office of Federal Activities.

[FR Doc. 05-19052 Filed 9-22-05; 8:45 am]

BILLING CODE 6560-50-P